DEPARTMENT OF ENERGY

Federal Energy Regulatory Commission

Combined Notice of Filings

Take notice that the Commission has received the following Natural Gas Pipeline Rate and Refund Report filings:

Filings Instituting Proceedings

Docket Numbers: RP22-80-000.

Applicants: Elba Express Company, L.L.C.

Description: Compliance filing: Order No. 587-Z Compliance Filing to be effective 6/1/2022.

Filed Date: 10/26/21.

Accession Number: 20211026-5012.

Comment Date: 5 p.m. ET 11/8/21.

Docket Numbers: RP22-81-000.

Applicants: Midcontinent Express Pipeline LLC.

Description: Compliance filing: Compliance Filing Pursuant to Order No. 587-Z to be effective 6/1/2022.

Filed Date: 10/26/21.

Accession Number: 20211026-5015.

Comment Date: 5 p.m. ET 11/8/21.

Docket Numbers: RP22-82-000.

Applicants: Southern LNG Company, L.L.C.

Description: Compliance filing: Order No. 587-Z Compliance Filing to be effective 6/1/2022.

Filed Date: 10/26/21.

Accession Number: 20211026-5016.

Comment Date: 5 p.m. ET 11/8/21.

Docket Numbers: RP22-83-000.

Applicants: Southern Natural Gas Company, L.L.C.

Description: Compliance filing: Order No. 587-Z Compliance Filing to be effective 6/1/2022.

Filed Date: 10/26/21.

Accession Number: 20211026-5017.

Comment Date: 5 p.m. ET 11/8/21.

Docket Numbers: RP22-84-000.

Applicants: Transcontinental Gas Pipe Line Company, LLC.

Description: § 4(d) Rate Filing: Rate Schedules GSS, LSS & SS-2 Tracker Eff 11/1/2021—EGTS and National Fuel to be effective 11/1/2021.

Filed Date: 10/26/21.

Accession Number: 20211026-5027.

Comment Date: 5 p.m. ET 11/8/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-351-002.

Applicants: Columbia Gas Transmission, LLC.

Description: Compliance filing: Removal of CCRM 2021 to be effective 2/1/2021.

Filed Date: 10/25/21.

Accession Number: 20211025-5080.

Comment Date: 5 p.m. ET 11/8/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2021.
Debbie-Anne A. Reese,
Deputy Secretary.

[FR Doc. 2021-23705 Filed 10-29-21; 8:45 am]

BILLING CODE 6717-01-P